DELAWARE RIVER BASIN COMMISSION

Notice of Commission Meeting and Public Hearing

Notice is hereby given that the Delaware River Basin Commission will hold an informal conference followed by a public hearing on Thursday, May 8, 2003. The hearing will be part of the Commission's regular business meeting. Both the conference session and business meeting are open to the public and will be held at the Commission's offices at 25 State Police Drive, West Trenton, New Jersey.

The conference among the commissioners and staff will begin at 9:30 a.m. Topics of discussion will include: an update on development of the Water Resources Plan for the Delaware River Basin, including feedback from the commissioners regarding member “sign-on;” a report by a representative of The Nature Conservancy concerning development of an ecological flow strategy for the Upper Delaware River Basin; a report on Flow Management Technical Advisory Committee activities; a report on the PCB Expert Panel and Toxics Advisory Committee meetings of March 20-21, 2003 and the TMDL stakeholder briefing of April 29, 2003; a presentation on New Jersey's Blueprint for Intelligent Growth (BIG) map and its relationship to water resources management; and a proposal for renewal of the Commission's contract with the Northeast-Midwest Institute.

The dockets scheduled for the public hearing to be held during the 1 p.m. business meeting are as follows:

1. Baer Aggregates, Inc. D-90-18 RENEWAL. A renewal of a ground water withdrawal project to supply up to 38 million gallons (mg)/30 days of water to the applicant's manufacturing plant from existing Wells Nos. 1, 2, 3 and 4. Well No. 1 is completed in glacial drift sediments; Wells Nos. 2, 3 and 4 are completed in the Kittatinny Limestone Formation. No increase in allocation is proposed. The project is located in Pohatcong Township, Warren County, New Jersey.

2. Grand View Hospital D-92-63 CP RENEWAL. A renewal of a ground water withdrawal project with an increase from 3.6 mg/30 days to 4.32 mg/30 days to supply the applicant's health care facility from existing Wells Nos. 1, 3, 4 and 5 in the Brunswick formation. The project is located in the East Branch Perkiomen Creek Watershed, in West Rockhill Township, Bucks County, in the Southeastern Pennsylvania Ground Water Protected Area.

3. Westampton Property Associates D-94-6 RENEWAL. A renewal of a ground water and surface water withdrawal project to continue withdrawal of 6.7 mg/30 days to supply the applicant's Deerwood Country Club golf course from existing Wells Nos. 1 and 2 and proposed Well No. 3 (all in the Englishtown Formation) to be conjunctively used with 3 existing surface water intakes, all in the Assiscunk Creek Watershed. The project is located in Westampton Township, Burlington County, New Jersey.

4. Township of West Deptford D-99-56 CP. A project to withdraw up to 17 mg/30 days of surface water from an intake on the tidal Delaware River in Water Quality Zone 4 to provide water for the development known as The Riverwinds at West Deptford, located in West Deptford Township, Gloucester County, New Jersey. The applicant proposes to withdraw this water for a residential and commercial development, including an 18-hole public golf course.

5. Aventis Pasteur Inc. D-99-71. A project to expand the capacity of the applicant's existing 0.2 million gallon per day (mgd) industrial wastewater treatment plant (IWTP) to 0.35 mgd utilizing Best Available Technology economically achievable. The original application was for an expansion to 0.45 mgd, but a reduction of flow was realized mainly due to conservation measures. The IWTP will continue to serve the applicant's vaccine production facility located off State Route 314 in Pocono Township, Monroe County, Pennsylvania. Treated effluent will continue to be discharged to Swiftwater Creek, a tributary of Paradise Creek in the Brodhead Creek Watershed, and to a proposed on-site seasonal spray irrigation disposal area.

6. Consumers New Jersey Water Company D-2000-37 CP. A ground water withdrawal project to supply 30 mg/30 days on a permanent basis, with an additional, temporary (approximately five years) ground water supply allocation of 61 mg/30 days to the applicant's Woolwich public water distribution system. The temporary allocation of 61 mg/30 days is valid until December 31, 2007 or until an alternate supply of surface water is made available under a Consumers New Jersey Water Company (NJWC)/New Jersey American Water Company (NJAWC) agreement. The ground water will be provided through Wells Nos. 1 through 7 in the Upper Potomac-Raritan-Magothy Aquifer in the Racoon Creek and Oldman's Creek Watersheds. The project is located in Woolwich Township, Gloucester County, New Jersey.

7. Philadelphia Suburban Water Company D-2002-1 (CP). A ground water withdrawal project to supply up to 17.4 mg/30 days of water to the applicant's public water supply system from new Well No. EP-A in the Triassic Limestone Fanglomerate Formation. The project is located in the Schuylkill River Watershed in Cumru Township, Berks County, Pennsylvania.

8. Nature's Way Purewater Systems, Inc. D-2002-44. A ground water withdrawal project to supply up to 4.189 mg/30 days of water for exportation to the applicant's bottling facility from new Wells Nos. BH-1 and BH-2 in the Mauch Chunk Formation. The project is located in the Linesville Creek Watershed in Foster Township, Luzerne County, Pennsylvania.

9. Nestlè Waters North America, Inc. D-2002-45. A ground water withdrawal project to supply up to 7.0 mg/30 days of water to the applicant's bottled water facility from new Well No. PW-1 in the Epler Formation. The project is located in the Iron Run Watershed in Upper Macungie Township, Lehigh County, Pennsylvania.

10. Camp French Woods D-2003-1. A project to expand a 33,750 gallon per day (gpd) Sewage Treatment Plant (STP) to process 48,000 gpd, while continuing to provide tertiary level of treatment. The project is necessary to serve the increased number of seasonal residents at the applicant's camp for children, located about 2 miles northwest of the intersection of Bouchoux Brook Road and Gilleran Road, in the Town of Hancock, Delaware County, New York. STP effluent will continue to be discharged to Sand Pond on an intermittent tributary of Bouchoux Brook, in the Special Protection Waters drainage area.

In addition to the public hearing items, the Commission will address the following at its 1 p.m. business meeting: Minutes of the March 19, 2003 business meeting; announcements; a report on Basin hydrologic conditions; a report by the executive director; a report by the Commission's general counsel; and a resolution authorizing the executive director to renew the Delaware River Basin Commission's May 2002 contract with the Northeast-Midwest Institute.

Draft dockets and other items scheduled for public hearing on March 19, 2003 are posted on the Commission's Web site, http://www.drbc.net, where they can be accessed through the Notice of Commission Meeting and Public Hearing. Additional documents relating to the dockets and other items may be examined at the Commission's offices. Please contact Thomas L. Brand at 609-883-9500 ext. 221 with any docket-related questions.

Persons wishing to testify at this hearing are requested to register in advance with the Commission Secretary at 609-883-9500 ext. 203. Individuals in need of an accommodation as provided for in the Americans With Disabilities Act who wish to attend the hearing should contact the Commission Secretary directly at 609-883-9500 ext. 203 or through the Telecommunications Relay Services (TRS) at 711, to discuss how the Commission may accommodate your needs.

Dated: April 22, 2003.
Pamela M. Bush,
Commission Secretary.

[FR Doc. 03-10323 Filed 4-25-03; 8:45 am]

BILLING CODE 6360-01-P